DEPARTMENT OF HOMELAND SECURITY

Coast Guard

33 CFR Part 100

[Docket No. USCG-2012-1036]

Special Local Regulations: Recurring Marine Events in Captain of the Port Long Island Sound Zone

AGENCY: Coast Guard, DHS.

ACTION: Notice of enforcement of regulation.

SUMMARY: The Coast Guard will enforce eight special local regulations for marine events in the Sector Long Island Sound area of responsibility on the dates and times listed in the table below. This action is necessary to provide for the safety of life on navigable waterways during the events. During the enforcement periods, no person or vessel may enter the safety zones without permission of the Captain of the Port (COTP) Sector Long Island Sound or designated representative.

DATES: The regulation in 33 CFR 100.100, Table 1 will be enforced during the dates and times listed in the SUPPLEMENTARY INFORMATION section.

FOR FURTHER INFORMATION CONTACT: If you have questions on this notice of enforcement, call or email Chief Petty Officer Katherine Linnick, Waterways Management Division, U.S. Coast Guard Sector Long Island Sound; telephone 203-468-4565, email Katherine.E.Linnick@uscg.mil.

SUPPLEMENTARY INFORMATION: The Coast Guard will enforce the special local regulations listed in 33 CFR 100.100 Table 1 on the specified dates and times:

5.2 Jones Beach Air Show | • Date: May 24, 2019—May 26, 2019.
| • Time: 09:30 a.m. to 3:30 p.m.
| • The “Slow/No Wake Area” and the “No Southbound Traffic Area” will be enforced each day for six hours after the air show concludes.
| • Location: “No Entry Area”: Waters of the Atlantic Ocean off Jones Beach State Park, Wantagh, NY contained within the following described area; beginning at a point on land at position 40°34′54″ N, 073°33′21″ W; then east along the shoreline of Jones Beach State Park to a point on land at position 40°35′53″ N, 073°28′48″ W; then south to a point in the Atlantic Ocean off of Jones Beach at position 40°35′05″ N, 073°28′34″ W; then west to position 40°33′15″ N, 073°33′09″ W; then north to the point of origin (NAD 83). All positions are approximate.
| • Additional Stipulations: “Slow/No Wake Area”: All navigable waters between Meadowbrook State Parkway and Wantagh State Parkway and contained within the following area. Beginning in position 40°35′49.01″ N, 73°32′33.63″ W; then north along the Meadowbrook State Parkway to its intersection with Merrick Road in position 40°39′14″ N, 73°34′0.76″ W; then east along Merrick Road to its intersection with Wantagh State Parkway in position 40°39′51.32″ N, 73°30′43.36″ W; then south along the Wantagh State Parkway to its intersection with Ocean Parkway in position 40°35′47.30″ N, 073°30′29.17″ W; then west along Ocean Parkway to its intersection with Meadowbrook State Parkway at the point of origin (NAD 83). All positions are approximate. “No Southbound Traffic Area”: All navigable waters of Zach's Bay south of the line connecting a point near the western entrance to Zach's Bay at position 40°36′29.20″ N, 073°29′22.88″ W and a point near the eastern entrance of Zach's Bay at position 40°36′16.53″ N., 073°28′57.26″ W (NAD 83). All positions are approximate.
6.1 Swim Across America Greenwich | • Date: June 22, 2019.
| • Time: 5:30 a.m. to 12:30 a.m.
| • Location: All navigable waters of Stamford Harbor within an area starting at a point in position 41°01′32.03″ N, 073°33′8.93″ W, then southeast to a point in position 41°01′15.01″ N, 073°32′55.58″ W; then southwest to a point in position 41°0′49.25″ N, 073°33′20.36″ W; then northwest to a point in position 41°0′58″ N, 073°33′27″ W; then northeast to a point in position 41°1′15.8″ N, 073°33′9.85″ W, then heading north and ending at point of origin (NAD 83). All positions are approximate.
7.1 Connecticut River Raft Race, Middletown, CT | • Date: July 27, 2019.
| • Time: 10:00 a.m. to 2:00 p.m.
| • Location: All waters of the Connecticut River near Middletown, CT between Gildersleeve Island (Marker no. 99) at position 41°36′ 02.13″ N, 072°37′ 22.71″ W; and Portland Riverside Marina (Marker no. 88) at positon 41°33′ 38.3″ N, 072°37′ 36.53″ W (NAD 83). All positons are approximate.
| • Additional stipulations: Spectators or other vessels shall not anchor, block, loiter, or impede the transit of event participants or official patrol vessels in the regulated areas unless authorized by the COTP or designated representative.
7.3 Clam Shell Foundation Fireworks | • Date: July 13, 2019.
| • Rain Date: July 14, 2019.
| • Time: 8:30 p.m. to 10:30 p.m.
| • Location: “No Entry Area”: All waters of Three Mile Harbor, East Hampton, NY within a 1000 foot radius of the launch platform in approximate position 41°01′15.49″ N, 072°11′27.5″ W (NAD 83).
| • Additional Stipulations: “Northbound Traffic Only Area”: All waters of Three Mile Harbor, East Hampton, NY contained within the following area; beginning at a point in position at 41°02′5.05″ N, 072°11′19.52″ W; then southeast to a point on land in position at 41°02′2.67″ N, 072°11′17.97″ W; then south along shoreline to a point on land in position at 41°01′35.26″ N, 072°11′9.56″ W; then southeast across channel to a point on land in position at 41°01′30.28″ N, 072°10″52.77″ W; then north along the shoreline to a point on land in position at 41°01′41.35″ N, 072°10′52.57″ W; then north across channel to a point on land in position at 41°01′44.41″ N, 072°10′52.23″ W near the southern end of Sedge Island; then north along shoreline of Sedge Island to a point on land in position at 41°01′56.3″ N, 072°10′59.37″ W, near the northern end of Sedge Island; then northwest across the channel to a point on land in position 41°01′56.76″ N, 072°11′0.66″ W; then northwest along shoreline to a point on land in position 41°01′41.35″ N, 072°10′52.57″ W; then northwest to position at 41°02′5.92″ N, 072°11′16.73″ W; and then southwest to point of origin (NAD 83). All positions are approximate.
7.4 Jones Beach State Park Fireworks | • Date: July 4, 2019.
| • Time: 8:30 p.m. to 10:30 p.m.
| • Location: “No Entry Area”: All waters off of Jones Beach State Park, Wantagh, NY within a 1000 foot radius of the launch platform in approximate position 40°34′56.68″ N, 073°30′31.19″ W (NAD 83).
| Additional stipulations: “Slow/No Wake Area”: All navigable waters between Meadowbrook State Parkway and Wantagh State Parkway and contained within the following area. Beginning in position at 40°35′49.01″ N, 073°32′33.63″ W; then north along the Meadowbrook State Parkway to its intersection with Merrick Road in position at 40°39′14″ N, 073°34′0.76″ W; then east along Merrick Road to its intersection with Wantagh State Parkway in position at 40°39′51.32″ N, 073°30′43.36″ W; then south along the Wantagh State Parkway to its intersection with Ocean Parkway in position at 40°35′47.30″ N, 073°30′29.17″ W; then west along Ocean Parkway to its intersection with Meadowbrook State Parkway at the point of origin (NAD 83). All positions are approximate. “No Southbound Traffic Area”: All navigable waters of Zach's Bay south of the line connecting a point near the western entrance to Zach's Bay in position at 40°36′29.20″ N, 073°29′22.88″ W and a point near the eastern entrance of Zach's Bay in position at 40°36′16.53″ N, 073°28′57.26″ W (NAD 83). All positions are approximate.
8.1 Riverfront Dragon Boat and Asian Festival | • Date: August 17, 2019.
| • Time: 8:00 a.m. to 5:00 p.m.
| • Location: All waters of the Connecticut River in Hartford, CT between the Bulkeley Bridge at 41°46′10.10″ N, 072°39′56.13″ W and the Wilbur Cross Bridge at 41°45′11.67″ N, 072°39′13.64″ W (NAD 83). All positions are approximate.
8.2 Swim Across the Sound | • Date: August 3, 2019.
| • Time: 6:30 a.m. to 7:30 p.m.
| • Location: Waters of Long Island Sound from Port Jefferson, NY in approximate position 40°58′11.71″ N, 073°05′51.12″ W; then northwest to Captain's Cove Seaport, Bridgeport, CT in approximate position 41°09′25.07″ N, 073°12′47.82″ W (NAD 83).
8.4 Island Beach Two Mile Swim | • Date: August 3, 2019.
| • Time: 8:00 a.m. to 11:00 a.m.
| • Location: All waters of Captain Harbor between Little Captain's Island and Bower's Island that are located within the box formed by connecting four points in the following positions. Beginning at 40°59′23.35″ N, 073°36′42.05″ W; then northwest to 40°59′51.04″ N, 073°37′57.32″ W; then southwest to 40°59′45.17″ N, 073°38′01.18″ W; then southeast to 40°59′17.38″ N, 073°36′45.9″ W; then northeast to the point of origin (NAD 83). All positions are approximate.

Under the provisions of 33 CFR 100.100, the events listed above are established as special local regulations. During the enforcement period, persons and vessels are prohibited from entering into, transiting through, mooring, or anchoring within these regulated areas unless they receive permission from the COTP or designated representative.

This notice of enforcement is issued under authority of 33 CFR 100 and 5 U.S.C. 552 (a). In addition to this notice of enforcement in the Federal Register, the Coast Guard will provide the maritime community with advance notification of this enforcement period via the Local Notice to Mariners or marine information broadcasts. If the COTP determines that these special local regulations need not be enforced for the full duration stated in this notice of enforcement, a Broadcast Notice to Mariners may be used to grant general permission to enter the regulated area.

Dated: May 15, 2019.
K.B. Reed,
Captain, U.S. Coast Guard, Captain of the Port Long Island Sound.

[FR Doc. 2019-12935 Filed 6-19-19; 8:45 am]

BILLING CODE 9110-04-P